DEPARTMENT OF THE INTERIOR

National Park Service

Notice of Inventory Completion: New York University College of Dentistry, New York, NY

AGENCY: National Park Service, Interior.

ACTION: Notice.

Notice is here given in accordance with the Native American Graves Protection and Repatriation Act (NAGPRA), 25 U.S.C. 3003, of the completion of an inventory of human remains in the possession of the New York University College of Dentistry, New York, NY. The human remains were removed from the Ely Site, Monroe County, NY.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by New York University College of Dentistry professional staff in consultation with representatives of the Seneca Nation of New York, Seneca-Cayuga Tribe of Oklahoma, and Tonawanda Band of Seneca Indians of New York.

Around 1940, human remains representing a minimum of one individual were removed from the Burgett or Ely Site (RMSC HNE 124), Monroe County, NY, by Robert Hill. In 1941, the remains were accessioned by the Department of Physical Anthropology at the Museum of the American Indian, Heye Foundation. In 1956, the remains were transferred to Dr. Theodore Kazamiroff, New York University College of Dentistry. No known individual was identified. No associated funerary objects are present.

Museum of the American Indian records list the locality of origin of the human remains as the “Burgett Site, West Rush, N.Y.” Labels with the remains repeat this information and specify that they were removed from burial 12 or 13. Cranial morphology and tooth shape is consistent with an individual of Native American ancestry. New York State Historic Preservation Office site files identify the Burgett site as the Ely Site, RMSC HNE 124. Archeologists have interpreted the Ely Site as a protohistoric Seneca site based on the ceramic types, pipe styles, lithics, and European materials present at the site and found in association with the burials. Consultations with the Seneca Nation of New York, Seneca-Cayuga Tribe of Oklahoma, and Tonawanda Band of Seneca Indians of New York confirm the identification of the Ely Site as a Seneca site.

After European contact, the Seneca were divided geopolitically into two groups, the Eastern Seneca and the Western Seneca. The Eastern Seneca remained in New York, while the Western Seneca moved to Ohio and then Oklahoma. The Eastern Seneca are represented today by two Federally-recognized tribes, the Seneca Nation of New York and Tonawanda Band of Seneca of New York. The Western Seneca are represented by the Seneca-Cayuga Tribe of Oklahoma.

Officials of New York University College of Dentistry have determined that, pursuant to 25 U.S.C. 3001 (9-10), the human remains described above represent the physical remains of one individual of Native American ancestry. Officials of New York University College of Dentistry also have determined that, pursuant to 25 U.S.C. 3001 (2), there is a relationship of shared group identity that can be reasonably traced between the Native American human remains and the Seneca Nation of New York, Seneca-Cayuga Tribe of Oklahoma, and Tonawanda Band of Seneca Indians of New York.

Representatives of any other Indian tribe that believes itself to be culturally affiliated with the human remains should contact Dr. Louis Terracio, New York University College of Dentistry, 345 East 24th St., New York, NY 10010, telephone (212) 998-9917, before October 22, 2009. Repatriation of the human remains to the Seneca Nation of New York, Seneca-Cayuga Tribe of Oklahoma, and Tonawanda Band of Seneca Indians of New York may proceed after that date if no additional claimants come forward.

The New York University College of Dentistry is responsible for notifying the Seneca Nation of New York, Seneca-Cayuga Tribe of Oklahoma, and Tonawanda Band of Seneca Indians of New York that this notice has been published.

Dated: September 2, 2009
Sherry Hutt,
Manager, National NAGPRA Program.

[FR Doc. E9-22771 Filed 9-21-09; 8:45 am]

BILLING CODE 4312-50-S